INTERNATIONAL TRADE COMMISSION

Sunshine Act Meeting

AGENCY HOLDING THE MEETING: United States International Trade Commission.

TIME AND DATE: November 2, 2000 at 11 a.m.

PLACE: Room 101, 500 E Street S.W., Washington, DC 20436 Telephone: (202) 205-2000.

STATUS: Open to the public.

MATTERS TO BE CONSIDERED: 1. Agenda for future meeting: none

2. Minutes

3. Ratification List

4. Inv. Nos. AA1921-197; 701-TA-231, 319-320, 322, 325-328, 340, 342, and 348-350; and 731-TA-573-576, 578, 582-587, 604, 607-608, 612, and 614-618 (Review) (Certain Carbon Steel Products from Australia, Belgium, Brazil, Canada, Finland, France, Germany, Japan, Korea, Mexico, the Netherlands, Poland, Romania, Spain, Sweden, Taiwan, and the United Kingdom. (The Commission is currently scheduled to transmit its determination and Commissioners' opinions to the Secretary of Commerce on November 20, 2000.)

5. Outstanding action jackets:

(1.) Document No. GC-00-071: Administrative matters.

In accordance with Commission policy, subject matter listed above, not disposed of at the scheduled meeting, may be carried over to the agenda of the following meeting.

Issued: October 23, 2000.
By order of the Commission:
Donna R. Koehnke,
Secretary.

[FR Doc. 00-27596 Filed 10-23-00; 2:12 pm]

BILLING CODE 7020-02-U